DEPARTMENT OF THE INTERIOR

Geological Survey

[GX16LR000F60100]

Agency Information Collection Activities: Request for Comments

AGENCY: U.S. Geological Survey (USGS), Interior.

ACTION: Notice of a renewal of a currently approved information collection (1028-0065) Production Estimate.

SUMMARY: We (the U.S. Geological Survey) are asking the Office of Management and Budget (OMB) to approve the information collection (IC) described below. This collection consists of 2 forms. As required by the Paperwork Reduction Act (PRA) of 1995, and as part of our continuing efforts to reduce paperwork and respondent burden, we invite the general public and other Federal agencies to take this opportunity to comment on this IC. This collection is scheduled to expire on October 31, 2016.

DATES: To ensure that your comments are considered, OMB must receive them on or before November 21, 2016.

ADDRESSES: Please submit your written comments on this IC directly to the Office of Management and Budget, Office of Information and Regulatory Affairs, Attention: Desk Officer for the Department of the Interior, at OIRA_SUBMISSION@omb.eop.gov (email); or (202) 395-5806 (fax). Please also forward a copy of your comments to the Information Collection Clearance Officer, U.S. Geological Survey, 12201 Sunrise Valley Drive, MS 807, Reston, VA 20192 (mail); 703-648-7197 (fax); or gs-info_collections@usgs.gov (email). Reference “Information Collection 1028-0065, Production Estimate” in all correspondence.

FOR FURTHER INFORMATION CONTACT: Elizabeth S. Sangine, National Minerals Information Center, U.S. Geological Survey, 12201 Sunrise Valley Drive, Mail Stop 989, Reston, VA 20192 (mail); 703-648-7720 (phone); or escottsangine@usgs.gov (email). You may also find information about this Information Collection Request (ICR) at www.reginfo.gov.

SUPPLEMENTARY INFORMATION:

I. Abstract

This collection is needed to provide data on mineral production for annual reports published by commodity for use by Government agencies, Congressional offices, educational institutions, research organizations, financial institutions, consulting firms, industry, academia, and the general public. This information will be published in the “Mineral Commodity Summaries,” the first preliminary publication to furnish estimates covering the previous year's nonfuel mineral industry.

II. Data

OMB Control Number: 1028-0065.

Form Number: USGS Forms 9-4042-A and 9-4124-A.

Title: Production Estimate, Two Forms: 9-4042-A and 9-4124-A.

Type of Request: Extension without change of a currently approved collection.

Affected Public: Business or Other-For-Profit Institutions: U.S. nonfuel minerals producers.

Respondent Obligation: None. Participation is voluntary.

Frequency of Collection: Annually.

Estimated Number of Annual Responses: 1,761.

Estimated Time per Response: 15 minutes.

Annual Burden Hours: 440 hours.

Estimated Reporting and Recordkeeping “Non-Hour Cost” Burden: There are no “non-hour cost” burdens associated with this IC.

Public Disclosure Statement: The PRA (44 U.S.C. 3501, et seq.) provides that an agency may not conduct or sponsor a collection of information unless it displays a currently valid OMB control number and current expiration date.

III. Request for Comments

On April 19, 2016, a 60-day Federal Register notice (81 FR 23004) was published announcing this information collection. Public comments were solicited for 60 days ending June 20, 2016. We did not receive any public comments in response to that notice. We again invite comments as to: (1) Whether the proposed collection of information is necessary for the agency to perform its duties, including whether the information is useful; (2) the accuracy of the agency's estimate of the burden time to the proposed collection of information; (3) how to enhance the quality, usefulness, and clarity of the information to be collected; and (4) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that it will be done.

Michael J. Magyar,
Associate Director, National Minerals Information Center, U.S. Geological Survey.

[FR Doc. 2016-25549 Filed 10-20-16; 8:45 am]

BILLING CODE 4338-11-P